NATIONAL AERONAUTICS AND SPACE ADMINISTRATION

[Notice: 23-020]

Name of Information Collection: NASA Website Customer Satisfaction Survey

AGENCY: National Aeronautics and Space Administration (NASA).

ACTION: Notice of new information collection.

SUMMARY: The National Aeronautics and Space Administration, as part of its continuing effort to reduce paperwork and respondent burden, invites the general public and other Federal agencies to take this opportunity to comment on proposed and/or continuing information collections.

DATES: Comments are due by May 15, 2023.

ADDRESSES: Written comments and recommendations for this information collection should be sent within 60 days of publication of this notice to www.reginfo.gov/public/do/PRAMain. Find this particular information collection by selecting “Currently under 60-day Review—Open for Public Comments” or by using the search function.

FOR FURTHER INFORMATION CONTACT: Requests for additional information or copies of the information collection instrument(s) and instructions should be directed to Bill Edwards-Bodmer, NASA Clearance Officer, NASA Headquarters, 300 E Street SW, JF0000, Washington, DC 20546, 757-864-3292, or b.edwards-bodmer@nasa.gov.

SUPPLEMENTARY INFORMATION:

I. Abstract: This collection of information supports the National Aeronautics and Space Act of 1958, as amended, specifically to improve how NASA disseminates information about its programs to “widest extent practicable.” NASA offers a small percentage of its web visitors a chance to take a survey that asks for the feedback on the site's design, navigation and other elements. NASA has used this data to inform ongoing improvements to the site, including major redesigns in 2003, 2007, 2013 and 2015. The data has then been used to track visitors' assessments of how successful each redesign was. Without this data, NASA wouldn't have known how to focus its improvement efforts or how successful they had been.

II. Methods of Collection: NASA has purchased the services of Verint, now the provider of the survey, which NASA has used for 20 years. Verint's product offers 0.1 percent of all visitors the opportunity to take the survey. Users may decline to take the survey entirely or to answer specific questions. If they accept, they are asked approximately 30 questions about the site's design, navigation, performance and other aspects. Once the survey is submitted, it is collated and analyzed. Verint provides NASA with an aggregated view of the data as well as individual responses to some questions. The user is never asked for identifying information, though some general demographic data is requested (education level, age range, self-identified audience segment, e.g., “general public”). Users can decline to take the survey by closing the computer window in which it is offered.

III. Data:

Title: NASA website Customer Satisfaction.

OMB Number: 2700-xxxx.

Type of review: Notice of new information collection.

Affected Public: Individuals.

Estimated Annual Number of Activities: 50,000.

Estimated Number of Respondents per Activity: maximum of 1.

Annual Responses: 10,000.

Estimated Time per Response: 15 minutes.

Estimated Total Annual Burden Hours: 2,500 hours.

Estimated Total Annual Cost: $120,000.

IV. Request for Comments:

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

William Edwards-Bodmer,
NASA PRA Clearance Officer.

[FR Doc. 2023-05371 Filed 3-15-23; 8:45 am]

BILLING CODE 7510-13-P